DEPARTMENT OF ENERGY

Federal Energy Regulatory Commission

Notice of Intent To File an Application for a New License

August 11, 2000.

a. Type of Filing: Notice of Intent To File an Application for a New License.

b. Project No.: 2686.

c. Date Filed: July 28, 2000.

d. Submitted By: Nantahala Power and Light—current licensee.

e. Name of Project: West Fork Hydroelectric Project.

f. Location: On the West Fork of the Tuckasegee River in Jackson County, North Carolina. The project does not utilize federal lands.

g. Filed Pursuant to: Section 15 of the Federal Power Act.

h. Licensee Contact: John C. Wishon, Nantahala Power and Light, 301 NP&L Loop, Franklin, NC 28734, (828) 369-4604.

i. FERC Contact: Steve Kartalia, steve.kartalia@ferc.fed.us, (202) 219-2942.

j. Effective date of current license: May 1, 1965.

k. Expiration date of current license: January 31, 2006.

l. Description of the Project: The project consists of the following two developments:

The Thorpe Development consists of the following existing facilities: (1) A 900-foot-long, 150-foot-high earth and rockfill dam; (2) a 410-foot-long, 122-foot-high saddle dam; (3) a spillway having two 25-foot by 12-foot Taintor gates; (4) a 1,462-acre reservoir at a normal water surface elevation of 3,491.75 feet USC & GS datum; (5) a series of three tunnels and three penstocks; (6) a powerhouse containing a single generating unit with an installed capacity of 21,600 kW, and (7) other appurtenances.

The Tuckasegee Development consists of the following existing facilities: (1) A 254-foot-long, 61-foot-high concrete arch dam topped with 3-foot-high flashboards; (2) a 7.9-acre reservoir at a normal water surface elevation of 2,278.75 feet USC & GS datum; (3) a tunnel leading to a 15-foot-diameter surge tank; (4) a powerhouse containing a single generating unit with an installed capacity of 3,000 kW; (5) a 1.8-mile-long, 6.6 kV transmission line; and (6) other appurtenances.

m. Each application for a new license and any competing license applications must be filed with the Commission at least 24 months prior to the expiration of the existing license. All applications for license for this project must be filed by January 31, 2004.

David P. Boergers,
Secretary.

[FR Doc. 00-20906 Filed 8-16-00; 8:45 am]

BILLING CODE 6717-01-M